NUCLEAR REGULATORY COMMISSION

Application for a License To Export Radioactive Waste

Pursuant to 10 CFR 110.70(b)(4) “Public notice of receipt of an application,” please take notice that the Nuclear Regulatory Commission has received the following application to amend export license XW003 as set forth below. Copies of the application are available electronically through ADAMS and can be accessed through the Public Electronic Reading Room (PERR) link http://www.nrc.gov/NRC/ADAMS/index.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning the application follows.

NRC Export License Amendment Application
Name of applicant; date of application; date received; application number | Description of material: Material type | Description of material: Total qty | Description of material: End use | Country or destination
Westinghouse Electric Company:
January 3, 2001 and January 11, 2001 | Class A Radioactive Waste—zirconium scrap (91,000.0 kgs) and molybdenum scrap (18,000.0 kgs) contaminated with low enriched uranium | Increase U from 20.0 kg to 500.9 kg and increase U-235 from 1.0 kg to 2.0 | Uranium will be removed from the scrap and disposed of as waste at AECL Chalk River, Ontario, disposal site | Canada.
XW003/01 |  |  | Extended expiration date from 12/31/05 to 12/31/10 |

Dated this 14th day of March 2001 at Rockville, Maryland.
For the Nuclear Regulatory Commission.
Ronald D. Hauber,
Deputy Director, Office of International Programs.

[FR Doc. 01-6813 Filed 3-19-01; 8:45 am]

BILLING CODE 7590-01-P